DEPARTMENT OF HEALTH AND HUMAN SERVICES

Health Resources and Services Administration

Solicitation of Nominations for Membership To Serve on Tribal Advisory Council

AGENCY: Health Resources and Services Administration (HRSA), Department of Health and Human Services (HHS).

ACTION: Notice.

SUMMARY: HRSA is seeking additional nominations of qualified tribal officials as candidates for consideration for appointment as voluntary delegate members of the HRSA Tribal Advisory Council (TAC), which is being established. Specifically, HRSA requests submissions of nominations of qualified tribal officials from the Indian Health Service (IHS) geographic areas of: Alaska; Albuquerque; Billings; Navajo; Phoenix; and Tucson. Nominations for membership must be received on or before September 30, 2020. This will allow tribes and tribal serving organizations from the IHS geographic areas noted above, the additional time needed to identify qualified tribal officials as candidates and submit comprehensive nomination packages.

FOR FURTHER INFORMATION CONTACT: CAPT Elijah K. Martin, Jr. EdD, MPH, Manager, Tribal Health Affairs, Office of Health Equity, HRSA, 5600 Fishers Lane, Room 13N44, Rockville, Maryland 20857, 301-443-7526, aianhealth@hrsa.gov.

SUPPLEMENTARY INFORMATION: The HRSA TAC will be established to engage in regular and meaningful collaboration and consultation with tribal officials on policies that have tribal implications and substantial direct effect on Indian tribes. HRSA, an agency of the U.S. Department of Health and Human Services (HHS), is the primary federal agency for improving health care to people who are geographically isolated, and/or economically or medically vulnerable. This includes people living with HIV/AIDS; pregnant women, mothers, and their families; and those otherwise unable to access high-quality health care. HRSA supports the training of health professionals, the distribution of providers to areas where they are needed most, and improvements in health care delivery. HRSA also oversees organ, bone marrow, and cord blood donation. It also oversees the National Vaccine Injury Compensation Program which can provide compensation to individuals in the rare cases that they are harmed by certain covered vaccinations and maintains databases that flag providers with a record of health care malpractice, waste, fraud, and abuse for federal, state, and local use.

The HRSA TAC will be the vehicle for acquiring a broad range of tribal views, determining the impact of HRSA programs on the American Indian and Alaska Natives health systems and population, developing innovative approaches to deliver health care, and assisting with effective tribal consultation. The HRSA TAC will hold one meeting each calendar year, or at the discretion of HRSA in consultation with the Chair. These meetings may be held in-person or virtually. The HRSA TAC will support, not supplant, any other government-to-government consultation activities that HRSA undertakes. In addition to assisting HRSA in the planning and coordination of tribal consultation sessions, the HRSA TAC will advise HRSA regarding the government-togovernment consultation process and will help ensure that HRSA activities and policies that impact Indian country are brought to the attention of all tribal leaders.

Nominations: A previous notice regarding the HRSA TAC was published in the Federal Register on February 6, 2020. The deadline for submissions was extended to July 6, 2020, and while HRSA received additional nomination packets, it did not receive a sufficient number of nomination packets to consider for each of the 12 vacant positions. HRSA is requesting nominations of tribal officials to serve as HRSA TAC delegate members to fill up to 12 voluntary positions on the HRSA TAC; one authorized tribal representative (and one designated alternate) from each of the Indian Health Service geographic areas. HRSA continues to seek additional qualified nominees, specifically from eligible tribal officials from the IHS geographic areas of: Alaska; Albuquerque; Billings; Navajo; Phoenix; and Tucson. The HRSA Administrator will appoint HRSA TAC delegate members with the expertise needed to fulfill the duties of the Advisory Council. Nominees will be considered in the following priority order:

1. Tribal president, chairperson, or governor;

2. Tribal vice president, vice-chairperson, or lieutenant governor;

3. Elected or appointed tribal official; and

4. Designated tribal official.

Interested applicants may self-nominate or be nominated by another individual or organization.

Individuals selected for appointment to the HRSA TAC will be invited to serve terms of up to 2 years. Appointed delegate members will receive per diem and travel expenses incurred for attending HRSA TAC meetings and/or conducting other authorized and approved business on behalf of the HRSA TAC.

The following information must be included in the package of materials submitted for each individual nominated for consideration: (1) Name of the nominee, a description of the interests the nominee would represent, and a description of the nominee's experience and interest in American Indian and Alaska Native access to health care; (2) evidence that the nominee is a duly elected or appointed tribal leader or tribal officer, or has been designated with authority to act on behalf of the duly elected or appointed tribal leader or officer, and is authorized to represent a tribal government; (3) a written commitment from the nominee that they will actively participate in good faith in HRSA TAC meetings; and (4) a current copy of the nominee's curriculum vitae. Nomination packages may be submitted directly by the individual being nominated or by the person/organization recommending the candidate.

HHS endeavors to ensure that the membership of the HRSA TAC is fairly balanced in terms of points of view represented and that individuals from a broad representation of geographic areas, gender, and ethnic and minority groups, as well as individuals with disabilities, are considered for membership. Appointments shall be made without discrimination on the basis of age, ethnicity, gender, sexual orientation, or cultural, religious, or socioeconomic status.

Maria G. Button,
Director, Executive Secretariat.

[FR Doc. 2020-18865 Filed 8-26-20; 8:45 am]

BILLING CODE 4165-15-P